DEPARTMENT OF THE INTERIOR

Bureau of Land Management

[MT-020-1010-PO]

Notice of Public Meeting, Eastern Montana Resource Advisory Council Meeting

AGENCY: Bureau of Land Management, Interior, Montana, Billings and Miles City Field Offices.

ACTION: Notice of public meeting.

SUMMARY: In accordance with the Federal Land Policy and Management Act (FLPMA) and the Federal Advisory Committee Act of 1972 (FACA), the U.S. Department of the Interior, Bureau of Land Management (BLM) Eastern Montana Resource Advisory Council (RAC), will meet as indicated below.

DATES: The meetings will be held May 30 and 31, 2007 in Miles City, MT with each day beginning at 8 a.m. The meetings will adjourn at approximately 3:30 p.m. each day. The public comment period will be at approximately 11 a.m. on the 31st. When determined, the meeting place will be announced in a news release.

FOR FURTHER INFORMATION CONTACT: Mark Jacobsen, Public Affairs Specialist, Miles City Field Office, 111 Garryowen Road, Miles City, Montana 59301. Telephone: (406) 233-2831.

SUPPLEMENTARY INFORMATION: The 15-member Council advises the Secretary of the Interior, through the Bureau of Land Management, on a variety of planning and management issues associated with public land management in Montana. At this meeting, topics to discuss include:

Field Manager Updates,

The Miles City Field Office and Billings Field Office Updates,

Subcommittee updates and working sessions,

—and other topics the council may raise.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided above.

Dated: April 16, 2007.
M. Elaine Raper,
Field Manager.

[FR Doc. E7-7632 Filed 4-20-07; 8:45 am]

BILLING CODE 4310-$$-P